DEPARTMENT OF THE INTERIOR

U.S. Geological Survey

Open Meeting of the Advisory Committee on Water Information

AGENCY: United States Geological Survey, Interior.

ACTION: Notice of an open meeting of the Advisory Committee on Water Information (ACWI).

SUMMARY: Notice is hereby given of a meeting of the ACWI. This meeting is to discuss broad policy-related topics relating to national water initiatives, and the development and dissemination of water information, through reports from ACWI subgroups. The agenda will include updates from ACWI's various subcommittees; discussion of a new Climate Workgroup that is being formed; a report on the National Monitoring Conference, which was held earlier this year in Portland, Oregon; a demonstration of new features that will be released later in the summer for the U.S. Geological Survey's National Water Information System; an update on the National Ground Water Monitoring Network Data Portal; a report on the Hydrologic Frequency Analysis Work Group's progress on revising Bulletin 17B, Guidelines For Determining Flood Flow Frequency; and a demonstration of a new component of the National Environmental Methods Index that provides better access to statistical and assessment methods for water quality.

The ACWI was established under the authority of the Office of Management and Budget Memorandum M-92-01 and the Federal Advisory Committee Act. The purpose of the ACWI is to provide a forum for water information users and professionals to advise the Federal Government on activities and plans that may improve the effectiveness of meeting the Nation's water information needs. Member organizations help to foster communications between the Federal and non-Federal sectors on sharing water information.

Membership, limited to 35 organizations, represents a wide range of water resources interests and functions. Representation on the ACWI includes all levels of government, academia, private industry, and professional and technical societies. For more information on the ACWI, its membership, subgroups, meetings and activities, please see the Web site at: http://ACWI.gov.

DATES: The formal meeting will take place from 9:00 a.m. until 4:00 p.m. on July 10, 2012, and from 9:00 a.m. until 4:30 p.m. on July 11, 2011 (times are Eastern Daylight Time).

ADDRESSES: The meeting will be held at the Crowne Plaza Dulles Airport, located at 2200 Centreville Road, Herndon, Virginia 20171. The meeting will also be accessible by teleconference and WebEx. There will also be a teleconference line and a WebEx internet link available for the use of those who cannot attend in person. Information on the teleconference and WebEx is available on the ACWI Web site at: http://acwi.gov/acwi-minutes/acwi2012/ACWI_July_2012_DRAFT_agenda.pdf

FOR FURTHER INFORMATION CONTACT: Ms. Wendy E. Norton, ACWI Executive Secretary and Chief, Water Information Coordination Program, U.S. Geological Survey, 12201 Sunrise Valley Drive, MS 417, Reston, VA 20192. Telephone: 703-648-6810; Fax: 703-648-5644; email: wenorton@usgs.gov.

SUPPLEMENTARY INFORMATION: This meeting is open to the public. Up to a half hour will be set aside for public comment. Persons wishing to make a brief presentation (up to 5 minutes) are asked to provide a written request with a description of the general subject to Ms. Norton at the above address no later than July 6, 2012. It is requested that 65 copies of a written statement be submitted at the time of the meeting for distribution to members of the ACWI and placement in the official file. Any member of the public may submit written information and (or) comments to Ms. Norton for distribution at the ACWI meeting.

Dated: June 20, 2012.
Wendy Norton,
Chief, Water Information Coordination Program.

[FR Doc. 2012-15648 Filed 6-26-12; 8:45 am]

BILLING CODE 4311-AM-P